POSTAL REGULATORY COMMISSION

39 CFR part 3050

[Docket No. RM2015-11; Order No. 2593]

Periodic Reporting

AGENCY: Postal Regulatory Commission.

ACTION: Notice of proposed rulemaking.

SUMMARY: The Commission is noticing a recent Postal Service filing requesting that the Commission initiate an informal rulemaking proceeding to consider changes to analytical principles relating to periodic reports (Proposal Three). This notice informs the public of the filing, invites public comment, and takes other administrative steps.

DATES: Comments are due: August 31, 2015. Reply Comments are due: September 10, 2015.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Summary of Proposal

III. Initial Commission Action

IV. Ordering Paragraphs

I. Introduction

On July 14, 2015, the Postal Service filed a petition pursuant to 39 CFR 3050.11 requesting that the Commission initiate an informal rulemaking proceeding to consider a proposed change in analytical principles relating to periodic reports.¹ A description of Proposal Three is attached to the Petition. Petition at 1. The Petition identifies the proposed change as a modification to the analytical method used to estimate shape and weight for a portion of the “Origin-Destination Information System—Revenue, Pieces and Weight” (ODIS-RPW) sampling frame related to letter and card shaped mailpieces. Id.

¹ Petition of the United States Postal Service Requesting Initiation of a Proceeding to Consider a Proposed Change in Analytical Principles (Proposal Three), July 14, 2015 (Petition).

II. Summary of Proposal

The Postal Service explains that ODIS-RPW is a probability-based destinating mail sampling system that primarily supplies the official “Revenue, Pieces and Weight By Class and Special Services” (RPW) report estimates of revenue, volume, and weight for single-piece stamped and metered mail. Id., Proposal Three at 4. Currently, ODIS-RPW data collectors travel to randomly selected Mail Exit Points (MEPs) on randomly selected days and manually sample mail as it arrives at these locations. Id. These data collectors record mail characteristics from the sampled mail pieces, such as revenue, volume, weight, mail class, subclass, and indicia. Id.

Under Proposal Three, a portion of MEPs would begin digitally capturing the images of letter and card shaped mail from Delivery Barcode Sequencing (DBCS) second pass operations. Id. at 3. The remaining portion of MEPs would continue to employ the existing manual ODIS-RPW sampling techniques. Id. at 4-5. The Postal Service asserts that all of the mail characteristics currently collected from manually sampled mailpieces can be collected from digitally captured images of sampled mailpieces, except for weight and shape. Id. at 3. The Postal Service proposes to use the weight and shape data from those MEPs that continue to employ manual sampling techniques as a distribution key for the digitally sampled mailpieces. Id. at 5.

The Postal Service plans to implement the change in Proposal Three beginning on January 1, 2016. Id. at 3. The Postal Service asserts that the proposed change would only impact three mail categories: First-Class Mail single-piece cards, First-Class Mail single-piece stamped letters, and First-Class Mail single-piece metered letters. Id. at 5.

The Postal Service states that the change in Proposal Three would have very little impact on the business needs that the ODIS-RPW system supports. Id. at 10. Moreover, the Postal Service notes that the changes in Proposal Three will result in cost savings through the elimination of travel time and on-site work hours for ODIS-RPW data collectors. Id. at 5 n.1.

III. Initial Commission Action

The Commission establishes Docket No. RM2015-11 for consideration of matters raised by the Petition. Additional information concerning the Petition may be accessed via the Commission's Web site at http://www.prc.gov. Interested persons may submit comments on the Petition and Proposal Three no later than August 31, 2015. Reply comments are due no later than September 10, 2015. Pursuant to 39 U.S.C. 505, Katalin K. Clendenin is designated as an officer of the Commission to represent the interests of the general public (Public Representative) in this proceeding.

IV. Ordering Paragraphs

It is ordered:

1. The Commission establishes Docket No. RM2015-11 for consideration of the matters raised by the Petition of the United States Postal Service Requesting Initiation of a Proceeding to Consider a Proposed Change in Analytical Principles (Proposal Three), filed July 14, 2015.

2. Comments are due no later than August 31, 2015. Reply comments are due no later than September 10, 2015.

3. Pursuant to 39 U.S.C. 505, the Commission appoints Katalin K. Clendenin to serve as Public Representative in this docket.

4. The Secretary shall arrange for publication of this order in the Federal Register.

By the Commission.
Ruth Ann Abrams,
Acting Secretary.

[FR Doc. 2015-17939 Filed 7-21-15; 8:45 am]

BILLING CODE 7710-FW-P